DEPARTMENT OF COMMERCE

National Oceanic and Atmospheric Administration

RIN 0648-XE453

Endangered and Threatened Species; Take of Anadromous Fish

AGENCY: National Marine Fisheries Service (NMFS), National Oceanic and Atmospheric Administration (NOAA), Commerce.

ACTION: Notice; availability of NMFS evaluations of joint state/tribal hatchery plans and request for comment.

SUMMARY: Notice is hereby given that the Washington Department of Fish and Wildlife (WDFW) and the Tulalip Tribes have submitted two Hatchery and Genetic Management Plans to NMFS, to be considered jointly pursuant to the limitation on take prohibitions for actions conducted under Limit 6 of the 4(d) Rule for salmon and steelhead promulgated under the Endangered Species Act (ESA). The plans specify the propagation of early-returning (“early”) winter steelhead in the Skykomish and Snoqualmie River watersheds of Washington State. This document serves to notify the public of the availability for comment of the Proposed Evaluation and Pending Determination of the Secretary of Commerce (Secretary) as to whether implementation of the joint plans will appreciably reduce the likelihood of survival and recovery of ESA-listed Puget Sound steelhead and Puget Sound Chinook salmon. The Proposed Evaluation and Pending Determination may be accessed through the following web address: http://www.westcoast.fisheries.noaa.gov.

DATES: Comments must be received at the appropriate address or email mailbox (see ADDRESSES) no later than 5 p.m. Pacific time on March 24, 2016.

ADDRESSES: Written comments on the proposed evaluation and pending determination should be addressed to the NMFS Sustainable Fisheries Division, 510 Desmond Dr., Suite 103, Lacey, WA 98503. Comments may be submitted by email. The mailbox address for providing email comments is: SnohomishSteelheadPlans.wcr@noaa.gov. Include in the subject line of the email comment the following identifier: Comments on Skykomish/Snoqualmie Steelhead Hatchery Programs. Comments received will also be available for public inspection, by appointment, during normal business hours by calling (503) 230-5418.

FOR FURTHER INFORMATION CONTACT: Tim Tynan at (360) 753-9579 or email: tim.tynan@noaa.gov.

SUPPLEMENTARY INFORMATION:

ESA-Listed Species Covered in This Notice

Steelhead (Oncorhynchus mykiss): threatened, naturally produced and artificially propagated Puget Sound.

Chinook salmon (O. tshawytscha): threatened, naturally produced and artificially propagated Puget Sound.

Background

The WDFW and the Tulalip Tribes have submitted to NMFS plans for two jointly operated hatchery programs in the Skykomish and Snoqualmie River basins. The plans were submitted in November 2014, pursuant to limit 6 of the 4(d) Rule for salmon and steelhead. One of the plans was subsequently resubmitted in February 2016 in revised form in response to NMFS pre-consultation review comments. The hatchery programs would release early winter steelhead that are not included as part of the ESA-listed Puget Sound Steelhead DPS into two tributaries of the Skykomish River and one tributary of the Snoqualmie River. Both programs would release fish that are not native to the watersheds.

As required by the ESA 4(d) rule (65 FR 42422, July 10, 2000, as updated in 70 FR 37160, June 28, 2005), the Secretary is seeking public comment on her pending determination as to whether the joint plans for early winter steelhead hatchery programs in the Skykomish River and Snoqualmie River watersheds would appreciably reduce the likelihood of survival and recovery of ESA-listed Puget Sound steelhead and Puget Sound Chinook salmon.

This 4(d) Rule applies the prohibitions enumerated in section 9(a)(1) of the ESA. NMFS did not find it necessary and advisable to apply the take prohibitions described in section 9(a)(1)(B) and 9(a)(1)(C) to artificial propagation activities if those activities are managed in accordance with a joint plan whose implementation has been determined by the Secretary to not appreciably reduce the likelihood of survival and recovery of the listed salmonids. As specified in limit 6 of the 4(d) Rule, before the Secretary makes a decision on the joint plan, the public must have an opportunity to review and comment on the pending determination.

Authority

Under section 4 of the ESA, the Secretary of Commerce is required to adopt such regulations as she deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 6 of the updated 4(d) rule (50 CFR 223.203(b)(6)) further provides that the prohibitions of paragraph (a) of the updated 4(d) rule (50 CFR 223.203(a)) do not apply to activities associated with a joint state/tribal artificial propagation plan provided that the joint plan has been determined by NMFS to be in accordance with the salmon and steelhead 4(d) rule (65 FR 42422, July 10, 2000, as updated in 70 FR 37160, June 28, 2005).

Dated: February 17, 2016.
Perry F. Gayaldo,
Deputy Director, Office of Protected Resources, National Marine Fisheries Service.

[FR Doc. 2016-03685 Filed 2-22-16; 8:45 am]

BILLING CODE 3510-22-P